DEPARTMENT OF COMMERCE

United States Patent and Trademark Office

[Docket No. PTO-C-2012-0038]

Performance Review Board (PRB)

AGENCY: United States Patent and Trademark Office, Commerce.

ACTION: Notice.

SUMMARY: In conformance with the Civil Service Reform Act of 1978, the United States Patent and Trademark Office announces the appointment of persons to serve as members of its Performance Review Board.

ADDRESSES: Director, Human Capital Management, Office of Human Resources, United States Patent and Trademark Office, P.O. Box 1450, Alexandria, VA 22313-1450.

FOR FURTHER INFORMATION CONTACT: Karen Karlinchak at (571) 272-8717.

SUPPLEMENTARY INFORMATION: The membership of the United States Patent and Trademark Office Performance Review Board is as follows:

Teresa Stanek Rea, Chair, Deputy Under Secretary of Commerce for Intellectual Property and Deputy Director of the United States Patent and Trademark Office.

Frederick W. Steckler, Chief Administrative Officer, United States Patent and Trademark Office.

Margaret A. Focarino, Commissioner for Patents, United States Patent and Trademark Office.

Deborah S. Cohn, Commissioner for Trademarks, United States Patent and Trademark Office.

Anthony P. Scardino, Chief Financial Officer, United States Patent and Trademark Office.

John B. Owens II, Chief Information Officer, United States Patent and Trademark Office.

Bernard J. Knight Jr., General Counsel, United States Patent and Trademark Office.

Shira Perlmutter, Administrator for Policy and External Affairs, United States Patent and Trademark Office

Alternates

Mary Boney Denison, Deputy Commissioner for Trademark Operations, United States Patent and Trademark Office.

Andrew I. Faile, Deputy Commissioner for Patent Operations, United States Patent and Trademark Office.

Dated: September 17, 2012.
David J. Kappos,
Under Secretary of Commerce for Intellectual Property and Director of the United States Patent and Trademark Office.

[FR Doc. 2012-23385 Filed 9-20-12; 8:45 am]

BILLING CODE 3510-16-P